DEPARTMENT OF LABOR

Employment and Training Administration

[TA-W-74,850; TA-W-74,850A]

StarTek USA, Inc., 244 Dundee Avenue, Greeley, CO; StarTek USA, Inc., 1250 H Street, Greeley, CO; Amended Certification Regarding Eligibility To Apply for Worker Adjustment Assistance

In accordance with Section 223 of the Trade Act of 1974, as amended (“Act”), 19 U.S.C. 2273, the Department of Labor issued a Certification of Eligibility to Apply for Worker Adjustment Assistance on December 28, 2010, applicable to workers and former workers of StarTek USA, Inc., Greeley, Colorado. The Department's notice of determination was published in the Federal Register on January 14, 2011 (76 FR 2717).

Based on new information provided subsequent to the issuance of the determination, the Department reviewed the certification for workers of the subject firm.

New information shows that there are two StarTek USA, Inc. facilities in Greeley, Colorado (the “west” center at 244 Dundee Avenue and the “north” center at 1250 H Street); both facilities supply business processes services and operate in conjunction with each other.

Accordingly, the Department is amending this certification to properly reflect this matter.

The intent of the Department's certification is to include all workers of the subject firm who were adversely affected by increased imports of like or directly competitive services.

The amended notice applicable to TA-W-74,850 is hereby issued as follows:

All workers of StarTek USA, Inc., 244 Dundee Avenue, Greeley, Colorado (TA-W-74,850) and StarTek USA, Inc., 1250 H Street, Greeley, Colorado (TA-W-74,850A), who became totally or partially separated from employment on or after November 5, 2009, through December 28, 2012, and all workers in the group threatened with total or partial separation from employment on December 28, 2010 through two years from the date of certification, are eligible to apply for adjustment assistance under Chapter 2 of Title II of the Trade Act of 1974, as amended.

Signed at Washington, DC, this 23rd day of April 2012.
Del Min Amy Chen,
Certifying Officer, Office of Trade Adjustment Assistance.

[FR Doc. 2012-11053 Filed 5-7-12; 8:45 am]

BILLING CODE 4510-FN-P